DEPARTMENT OF ENERGY

Federal Energy Regulatory Commission

Combined Notice of Filings

Take notice that the Commission has received the following Natural Gas Pipeline Rate and Refund Report filings:

Filings Instituting Proceedings

Docket Numbers: PR25-50-000.

Applicants: Centana Intrastate Pipeline, LLC.

Description: § 284.123(g) Rate Filing: 2025 Rate Petition to be effective 3/1/2025.

Filed Date: 5/1/25.

Accession Number: 20250501-5371.

Comment Date: 5 p.m. ET 5/22/25.

§ 284.123(g) Protest: 5 p.m. ET 6/30/25.

Docket Numbers: RP25-882-000.

Applicants: Gulfstream Natural Gas System, L.L.C.

Description: Compliance filing: 2025 GNGS TUP/SBA Annual Filing to be effective N/A.

Filed Date: 5/1/25.

Accession Number: 20250501-5216.

Comment Date: 5 p.m. ET 5/13/25.

Docket Numbers: RP25-883-000.

Applicants: Mountain Valley Pipeline, LLC.

Description: § 4(d) Rate Filing: Negotiated Rate Capacity Release Agreements—05/01/2025 to be effective 5/1/2025.

Filed Date: 5/1/25.

Accession Number: 20250501-5220.

Comment Date: 5 p.m. ET 5/13/25.

Docket Numbers: RP25-884-000.

Applicants: Sabal Trail Transmission, LLC.

Description: § 4(d) Rate Filing: 2025 TUP/SBA Annual Filing to be effective 6/1/2025.

Filed Date: 5/1/25.

Accession Number: 20250501-5223.

Comment Date: 5 p.m. ET 5/13/25.

Docket Numbers: RP25-885-000.

Applicants: Equitrans, L.P.

Description: § 4(d) Rate Filing: Negotiated Rate Capacity Release Agreements—05/01/2025 to be effective 5/1/2025.

Filed Date: 5/1/25.

Accession Number: 20250501-5224.

Comment Date: 5 p.m. ET 5/13/25.

Docket Numbers: RP25-886-000.

Applicants: Northern Natural Gas Company.

Description: § 4(d) Rate Filing: 20250501 Winter PRA to be effective 11/1/2025.

Filed Date: 5/1/25.

Accession Number: 20250501-5233.

Comment Date: 5 p.m. ET 5/13/25.

Docket Numbers: RP25-887-000.

Applicants: Northern Natural Gas Company.

Description: § 4(d) Rate Filing: 20250501 Negotiated Rate to be effective 5/1/2025.

Filed Date: 5/1/25.

Accession Number: 20250501-5253.

Comment Date: 5 p.m. ET 5/13/25.

Docket Numbers: RP25-888-000.

Applicants: Texas Eastern Transmission, LP.

Description: § 4(d) Rate Filing: Negotiated Rates—Various Releases eff 5-1-25 to be effective 5/1/2025.

Filed Date: 5/1/25.

Accession Number: 20250501-5367.

Comment Date: 5 p.m. ET 5/13/25.

Docket Numbers: RP25-889-000.

Applicants: ConocoPhillips Company, Marathon Oil Company, Marathon Oil Permian LLC.

Description: Joint Petition for Limited Waiver of Capacity Release Regulations, et al. of ConocoPhillips Company, et al.

Filed Date: 5/1/25.

Accession Number: 20250501-5332.

Comment Date: 5 p.m. ET 5/13/25.

Docket Numbers: RP25-890-000.

Applicants: Double E Pipeline, LLC.

Description: Annual System Balancing Adjustment of Double E Pipeline, LLC.

Filed Date: 5/1/25.

Accession Number: 20250501-5384.

Comment Date: 5 p.m. ET 5/13/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP12-609-000.

Applicants: Texas Gas Transmission, LLC.

Description: Report Filing: 2024 Operational Purchases and Sales Report Filing to be effective N/A.

Filed Date: 5/1/25.

Accession Number: 20250501-5244.

Comment Date: 5 p.m. ET 5/13/25.

Docket Numbers: RP13-212-000.

Applicants: Boardwalk Storage Company, LLC.

Description: Report Filing: 2024 Operational Purchases and Sales Report Filing to be effective N/A.

Filed Date: 5/1/25.

Accession Number: 20250501-5207.

Comment Date: 5 p.m. ET 5/13/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 2, 2025.
Carlos D. Clay,
Deputy Secretary.

[FR Doc. 2025-08051 Filed 5-7-25; 8:45 am]

BILLING CODE 6717-01-P